DEPARTMENT OF LABOR

Employment and Training Administration

Investigations Regarding Certifications of Eligibility To Apply for Worker Adjustment Assistance

Petitions have been filed with the Secretary of Labor under section 221(a) of the Trade Act of 1974 (“the Act”) and are identified in the Appendix of this notice. Upon receipt of these petitions, the Director of the Division of Trade Adjustment Assistance, Employment and Training Administration, has instituted investigations pursuant to section 221(a) of the Act.

The purpose of each of the investigations is to determine whether the workers are eligible to apply for adjustment assistance under title II, chapter 2, of the Act. The investigations will further relate, as appropriate, to the determination of the date on which total or partial separations begin or threatened to begin and the subdivision of the firm involved.

The petitioners or any other persons showing a substantial interest in the subject matter of the investigations may request a public hearing, provided such request is filed in writing with the Director, Division of Trade Adjustment Assistance, at the address shown below, not later than January 21, 2003.

Interested persons are invited to submit written comments regarding the subject matter of the investigations to the Director, Division of Trade Adjustment Assistance, at the address shown below, not later than January 21, 2003.

The petitions filed in this case are available for inspection at the Office of the Director, Division of Trade Adjustment Assistance, Employment and Training Administration, U.S. Department of Labor, Room C-5311, 200 Constitution Avenue, NW., Washington, DC 20210.

Signed in Washington, DC this 3rd day of January 2003.
Edward A. Tomchick,
Director, Division of Trade Adjustment Assistance.

Appendix
[Petitions instituted between 12/16/2002 and 12/23/2002]
TA-W | Subject firm (petitioners) | Location | Date of institution | Date of petition
50,349 | Simmons Foods (AR) | Siloam Springs, AR | 12/16/2002 | 12/01/2002
50,350 | Leviton Manufacturing Co., Inc. (Comp) | Warwick, RI | 12/16/2002 | 12/13/2002
50,351 | Top Gun Tool, Inc. (Wkrs) | Erie, PA | 12/16/2002 | 12/16/2002
50,352 | Spherion Atlanta Enterprises, LLC (NC) | Wilmington, NC | 12/16/2002 | 12/13/2002
50,353 | Edinboro Molding, Inc. (Comp) | Edinboro, PA | 12/16/2002 | 11/04/2002
50,354 | Red-Wing Shoe Company (Wkrs) | Potosi, MO | 12/16/2002 | 11/22/2002
50,355 | Southwest Silica Flux (Wkrs) | Hanover, NM | 12/16/2002 | 12/01/2002
50,356 | Key Plastics, LLC (Wkrs) | Port Huron, MI | 12/16/2002 | 12/01/2002
50,357 | Dixon Toconderoga Co. (Comp) | Sandusky, OH | 12/16/2002 | 12/09/2002
50,358 | Jore Corp (Comp) | Edgerton, WI | 12/16/2002 | 12/16/2002
50,359 | General Chemical Group (Comp) | Manistee, MI | 12/16/2002 | 12/13/2002
50,360 | Ocean State Finishing Co. (Wkrs) | Woonsocket, RI | 12/17/2002 | 12/02/2002
50,361 | OEM Shades, Inc. (Comp) | Ford City, PA | 12/17/2002 | 12/13/2002
50,362 | Rosal Sportswear (UNITE) | Lehighton, PA | 12/17/2002 | 12/10/2002
50,363 | Miorasami Corporation (Comp) | Scottsdale, AZ | 12/17/2002 | 12/12/2002
50,364 | Reactive Metals and Alloys Corp. (Comp) | W. Pittsburg, PA | 12/17/2002 | 12/12/2002
50,365 | Amital Spinning Corporation (Wkrs) | Wallace, NC | 12/18/2002 | 12/12/2002
50,366 | Agere Systems, Inc. (IBEW) | Breinigsville, PA | 12/18/2002 | 12/09/2002
50,367 | Autoliv ASP (UNITE) | Indianapolis, IN | 12/18/2002 | 12/12/2002
50,368 | Flexaust (Wkrs) | El Paso, TX | 12/18/2002 | 12/07/2002
50,369 | Akzo Nobel Polymer Chemicals, LLC (Comp) | Burt, NY | 12/18/2002 | 12/10/2002
50,370 | Ultimate Tool, Inc. (Comp) | Erie, PA | 12/18/2002 | 12/12/2002
50,371 | Nestle Confections and Snacks (RWDSU) | Fulton, NY | 12/18/2002 | 12/09/2002
50,372 | Oneida Limited (Comp) | Oneida, NY | 12/18/2002 | 12/10/2002
50,373 | Chautauqua Hardware Corporation (Wkrs) | Jamestown, NY | 12/18/2002 | 12/12/2002
50,374 | SPX Valves and Controls (Comp) | Lake City, PA | 12/18/2002 | 12/11/2002
50,375 | Carlisle Food Service Products (Comp) | Erie, PA | 12/18/2002 | 12/03/2002
50,376 | Medtronic Perfusion Systems (Comp) | Anaheim Hills, CA | 12/18/2002 | 12/15/2002
50,377 | Trans World Connections, Ltd. (Wkrs) | Lynchburg, VA | 12/18/2002 | 12/12/2002
50,378 | NACCO Materials Handling Group, Inc. (Comp) | Lenoir, NC | 12/18/2002 | 12/12/2002
50,379 | B and D Resources (Wkrs) | Robinson, IL | 12/18/2002 | 12/13/2002
50,380 | Tri Star Refractions, Inc. (USWA) | Cincinnati, OH | 12/18/2002 | 12/12/2002
50,381 | Vishay Micro-Measurements (Comp) | Wendell, NC | 12/18/2002 | 12/17/2002
50,382 | Reddog Industries (Wkrs) | Erie, PA | 12/18/2002 | 12/17/2002
50,383 | Employment Control, Inc. (USWIB) | Easton, MD | 12/18/2002 | 11/19/2002
50,384 | National Forge Company (IUNFE) | Irvine, PA | 12/18/2002 | 12/14/2002
50,385 | Santini Corporation (Comp) | Leoma, TN | 12/18/2002 | 12/17/2002
50,386 | Burelbach Industries (OR) | Rickreal, OR | 12/18/2002 | 12/10/2002
50,387 | Pittsburg Cut Flower (Comp) | Pittsburg, PA | 12/18/2002 | 12/12/2002
50,388 | Pasminco (USWA) | Gordonsville, TN | 12/19/2002 | 12/18/2002
50,389 | F/V Three Wind (Comp) | Dillingham, AK | 12/19/2002 | 12/17/2002
50,390 | Goodyear Tire and Rubber Company (USWA) | Lincoln, NE | 12/19/2002 | 12/18/2002
50,391 | Motorola, Inc. (Wkrs) | Deer Park, IL | 12/19/2002 | 12/10/2002
50,392 | Heckett Multi-Serv (Wkrs) | Koppel, PA | 12/19/2002 | 12/02/2002
50,393 | Tredegar Film Products (Wkrs) | Carbondale, PA | 12/19/2002 | 11/07/2002
50,394 | Micro Component Tech. (Wkrs) | Roseville, MN | 12/19/2002 | 12/18/2002
50,395 | Delafoil Ohio, Inc. (Comp) | Perrysburg, OH | 12/19/2002 | 12/18/2002
50,396 | Sherwood Tool, Inc. (Comp) | Kensington, CT | 12/19/2002 | 12/11/2002
50,397 | Clorox Products Manufacturing (ME) | Londonderry, NH | 12/19/2002 | 12/17/2002
50,398 | West Coast Automation, Corp. (Comp) | Goldendale, WA | 12/19/2002 | 12/18/2002
50,399 | Computer Horizons Corporation (Comp) | Irving, TX | 12/19/2002 | 12/15/2002
50,400 | Staktek Group L.P. (Comp) | Austin, TX | 12/19/2002 | 12/13/2002
50,401 | FPL Energy (IBEW) | Yarmouth, ME | 12/19/2002 | 12/13/2002
50,402 | Tillotson Healthcare Corp. (Wkrs) | Colebrook, NH | 12/23/2002 | 11/21/2002
50,403 | Badger Pattern Works, Inc. (Comp) | New Berlin, WI | 12/23/2002 | 12/20/2002

[FR Doc. 03-422 Filed 1-8-03; 8:45 am]

BILLING CODE 4510-30-M